DEPARTMENT OF ENERGY

Federal Energy Regulatory Commission

18 CFR Part 35

[Docket No. RM18-1-000]

Grid Reliability and Resilience Pricing

AGENCY: Federal Energy Regulatory Commission, Department of Energy.

ACTION: Proposed rule; Request for Comments.

SUMMARY: The Federal Energy Regulatory Commission (Commission) is inviting comments on the proposed rule published on October 10, 2017 in the Federal Register by the Commission at the direction of the Department of Energy.

DATES: Interested persons are invited to submit comments on all matters and issues regarding the Proposal. Comments are due on or before October 23, 2017. Reply comments are due on or before November 7, 2017.

ADDRESSES: Comments must refer to Docket No. RM18-1-000 and must include the commenter's name, the organization they represent, if applicable, and their address.

The Commission encourages comments to be filed electronically via the eFiling link on the Commission's Web site at http://www.ferc.gov. The Commission accepts most standard word processing formats. Documents created electronically using word processing software should be filed in native applications or print-to-PDF format and not in a scanned format. Commenters filing electronically do not need to make a paper filing.

Commenters that are not able to file comments electronically must send an original of their comments to: Federal Energy Regulatory Commission, Secretary of the Commission, 888 First Street NE., Washington, DC 20426.

SUPPLEMENTARY INFORMATION: On October 10, 2017, pursuant to section 403 of the Department of Energy Organization Act,¹ the Secretary of Energy (Secretary) published in the Federal Register a proposed rule for final action (Proposal) by the Federal Energy Regulatory Commission (Commission).²

¹ 42 U.S.C. 7173 (2012).

² 82 FR 46940 (Oct. 10, 2017).

All comments will be placed in the Commission's public files and may be viewed, printed, or downloaded remotely. Commenters on the Proposal are not required to serve copies of their comments on other commenters.

Dated: October 2, 2017.
Kimberly D. Bose,
Secretary.

[FR Doc. 2017-22215 Filed 10-13-17; 8:45 am]

BILLING CODE 6717-01-P